DEPARTMENT OF COMMERCE

National Oceanic and Atmospheric Administration

[Docket No. 020611144-2144-01; I.D. 041102A]

Marine Mammal Authorization Program Integration of Registration for Selected Atlantic Ocean, Gulf of Mexico, and Caribbean Fisheries

AGENCY: National Marine Fisheries Service (NMFS), National Oceanic and Atmospheric Administration (NOAA), Commerce.

ACTION: Notice of expansion of integrated registration program.

SUMMARY: NMFS is providing notice that it is increasing the number of fisheries for which the Marine Mammal Authorization Program (MMAP) registration is integrated with existing state and Federal fishery licensing and permitting programs. NMFS is integrating MMAP registration at this time only for specific Category I or II fisheries with fishery management plans (FMP) administered by the Northeast Regional office of NMFS and the pelagic longline fishery administered under the Highly Migratory Species FMP. Fishers who participate in a Category I or II fishery for which registration is not integrated must continue to register as specified in the 2002 List of Fisheries.

ADDRESSES: For east coast fisheries, registration information and marine mammal injury/mortality reporting forms may be obtained from the following regional offices:

NMFS, Northeast Region, Protected Resources Division, One Blackburn Drive, Gloucester, MA 01930-2298, Attn: Marcia Hobbs.

NMFS, Southeast Region, 9721 Executive Center Drive North, St. Petersburg, FL 33702, Attn: Teletha Griffin.

FOR FURTHER INFORMATION CONTACT: Patricia Lawson, Office of Protected Resources, 301-713-2322; Kim Thounhurst, Northeast Regional Office, 978-281-9138; or Teletha Griffin, Southeast Regional Office, 727-570-5312. Individuals who use a telecommunications device for the deaf (TDD) may call the Federal Information Relay Service at 1-800-877-8339 between 8 a.m. and 4 p.m. Eastern time, Monday through Friday, excluding Federal holidays.

SUPPLEMENTARY INFORMATION:

Background

According to the Marine Mammal Protection Act (MMPA), all fishers who participate in a Category I or II fishery contained in the List of Fisheries (LOF) final rule (67 FR 2410, January 17, 2002) must be registered in the MMAP. The MMAP provides an authorization for commercial fishers which allows the incidental (i.e., non-intentional) taking of marine mammals pursuant to the MMPA during the course of commercial fishing operations. To qualify for this authorization, fishers who participate in a Category I or II fishery must register in the MMAP. (For a complete description of requirements for Category I and II fisheries, consult 50 CFR 229.4). Information collected under the MMAP, as well as from other sources, provides the basis for identifying and determining the level of incidental serious injury and mortality of marine mammals in commercial fishing operations relative to the allowable take level, or potential biological removal level, for each marine mammal stock.

Section 118 (c)(5)(A) of the MMPA (16 U.S.C. 1387 (c)(5)(A)) states that “The Secretary shall develop, in consultation with the appropriate States, affected Regional Fishery Management Councils, and other interested persons, the means by which the granting and administration of authorizations under this section shall be integrated and coordinated, to the maximum extent practicable, with existing fishery licenses, registrations, and related programs.”

In recent years, NMFS has integrated its MMAP with other licensing systems in the northeast for the state and Federal components of the American lobster trap/pot fishery, the Federal portion of the squid/mackerel/butterfish trawl fishery, and the Northeast and Mid-Atlantic Federal gillnet fisheries. NMFS has also integrated several west coast fisheries, and NMFS is now integrating additional state and Federal fishery permitting and licensing systems in the eastern United States.

The goals of the expanded integration program include assuring consistency in registration procedures across a greater number of east coast fisheries, increasing the number of registrants to better reflect the level of participation in the fisheries for monitoring purposes, and conducting outreach to the fishing industry with regard to MMPA requirements. By using data from existing fishery licensing programs, the MMAP integration will reduce the registration burden on the fishing industry while better facilitating the protection and conservation of marine mammals. In a licensing system that is integrated with the MMAP fishers will no longer have to submit an MMAP, current fishery permit holders registration form, renewal form, or processing fee to NMFS in order to receive or validate their MMAP Authorization. Certificates.

NMFS is pursuing the integration of MMAP registration based on the fishery listings in the 2002 LOF. Many of these fisheries include both a state and a Federal component. For 2002, only the fisheries with a Federal FMP administered by the NMFS Northeast Regional Office and the pelagic longline fishery administered under the Highly Migratory Species FMP will be integrated. Northeast fisheries with FMPs to be integrated include the American Lobster, Atlantic Bluefish, Atlantic Herring, Monkfish, Northeast Multispecies, Spiny Dogfish, Squid/Mackerel/Butterfish, Summer Flounder/Scup/Black Sea Bass, and Tilefish. Of those fisheries, only those permit holders who indicated use of gear types that fall within the 2002 LOF will be integrated. NMFS is continuing to work toward integrating the MMAP registration for fishers who participate in the federal fisheries in the southeast region.

In order to integrate state-managed fisheries, NMFS is obtaining fishery license-holder information from individual states. NMFS has requested and received data from the east coast states of Maine through Florida.

Once a database is established with the license-holder information from the state and Federal permit databases, NMFS will mail MMAP Authorization Certificates and marine mammal injury/mortality reporting forms to each permit or license-holder. The certificates will provide a MMAP authorization for all fishers who participate in an integrated Category I or II fishery, provided that the fisher holds a valid state or Federal fishing permit or license for the affected regulated fishery.

Since integration must be accomplished by linking existing state and Federal permit or license databases to the NMFS MMAP database, fishers who participate only in unregulated fisheries (i.e., fisheries for which there are currently no state or Federal permits), must still register according to the procedures specified in the 2002 LOF. For example, the hagfish trap/pot fishery in New England is currently an unregulated fishery, and it falls under the new Category II listing for the Northeast trap/pot fishery. Therefore, a fisher who participates only in the hagfish trap/pot fishery in New England will be required to send in the MMAP registration form. However, if a hagfish trap/pot fisher also participates in a regulated fishery which is integrated under the MMAP, such as the American lobster fishery, NMFS will integrate registration for that permit holder for the hagfish fishery along with the regulated fishery. Thus, it will not be necessary for these fishers to submit a second registration for hagfish. A fisher who participates in state and Federal fisheries not yet integrated with the MMAP registration system must continue to send in the registration form to NMFS.

Dated: June 14, 2002.
Rebecca J. Lent,
Deputy Assistant Administrator for Regulatory Programs, National Marine Fisheries Service.

[FR Doc. 02-15738 Filed 6-20-02; 8:45 am]

BILLING CODE 3510-22-S